DEPARTMENT OF COMMERCE

National Oceanic and Atmospheric Administration

[RTID 0648-XA926]

Mid-Atlantic Fishery Management Council (MAFMC); Workshop

AGENCY: National Marine Fisheries Service (NMFS), National Oceanic and Atmospheric Administration (NOAA), Commerce.

ACTION: Notice of public workshops.

SUMMARY: The Mid-Atlantic Fishery Management Council (Council) will hold three regional public webinar workshops to solicit input on future management of the recreational summer flounder fishery and strategies to minimize discards.

DATES: The regional webinar workshops will be held between March 29 and April 5, 2021. Each workshop will be held from 5:30 p.m. through 8 p.m., EST. See SUPPLEMENTARY INFORMATION for more details, including the dates and times for all regional workshops.

ADDRESSES: These workshops will take place over webinar using the WebEx platform with a telephone-only connection option. Details on how to connect to the webinar by computer and by telephone will be available at: https://www.mafmc.org/.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Council is collecting stakeholder feedback and suggestions regarding current and future management of the recreational summer flounder fishery. Public input provided will help inform the development of a management strategy evaluation (MSE) which will evaluate different management strategies designed to minimize discards in the recreational summer flounder fishery. This MSE is part of the Council's continued implementation of its Ecosystem Approach to Fisheries Management (EAFM) structured framework process that will evaluate different management approaches within an ecosystem context to determine if the outcomes associated with the different approaches achieve management goals and objectives. Workshop participants will listen to a series of short background presentations and will then participate in an MSE workshop to provide input and feedback regarding summer flounder discard concerns, potential management objectives to address these concerns, and performance metrics and strategies to achieve these objectives.

The dates and times of the three webinar workshops are listed below. Individuals are encouraged to participate in the workshop for their region; however, all workshops are open to all individuals.

1. Massachusetts through Connecticut: Monday, March 29, 2021; 5:30 p.m.-8 p.m.

2. New York through Delaware: Wednesday, March 31, 2021; 5:30 p.m.-8 p.m.

3. Maryland through North Carolina: Monday, April 5, 2021; 5:30 p.m.-8 p.m.

A detailed agenda and background documents will be made available on the Council's website (www.mafmc.org) prior to the workshops.

Special Accommodations

These workshops are physically accessible to people with disabilities. Requests for sign language interpretation or other auxiliary aid should be directed to Kathy Collins, (302) 526-5253, at least 5 days prior to the meeting date.

Authority: 16 U.S.C. 1801 et seq.

Dated: March 10, 2021.
Tracey L. Thompson,
Acting Deputy Director, Office of Sustainable Fisheries, National Marine Fisheries Service.

[FR Doc. 2021-05301 Filed 3-12-21; 8:45 am]

BILLING CODE 3510-22-P